FEDERAL ELECTION COMMISSION

11 CFR Part 110

[Notice 2024-24]

Fraudulent Misrepresentation of Campaign Authority

AGENCY: Federal Election Commission.

ACTION: Interpretive rule.

SUMMARY: The Federal Election Commission is issuing guidance on the fraudulent misrepresentation of campaign authority.

DATES: This interpretive rule is effective September 26, 2024.

FOR FURTHER INFORMATION CONTACT: Mr. Robert M. Knop, Assistant General Counsel, or Ms. Jennifer Waldman, Attorney, 1050 First Street NE, Washington, DC 20463, (202) 694-1650 or (800) 424-9530.

SUPPLEMENTARY INFORMATION: The Federal Election Campaign Act (“FECA” or “Act”) prohibits the fraudulent misrepresentation of campaign authority. It does so in two ways: (1) by barring Federal candidates or their agents from fraudulently misrepresenting themselves or organizations under their control as “speaking or writing or otherwise acting for or on behalf of any other candidate or political party or employee or agent thereof on a matter which is damaging to such other candidate or political party or employee or agent thereof” or “willfully and knowingly” participating in or conspiring to do so; and (2) by barring any person from “fraudulently misrepresent[ing]” themselves “as speaking, writing, or otherwise acting for or on behalf of any candidate or political party or employee or agent thereof for the purpose of soliciting contributions or donations” or “willfully and knowingly” participating in or conspiring to do so. 52 U.S.C. 30124; see also 11 CFR 110.16.

It has been suggested that this statute may have a specific application in light of new developments in technology, especially content generated with the assistance of artificial intelligence (“AI”). For this reason, the Commission is issuing this guidance to clarify that 52 U.S.C. 30124 and 11 CFR 110.16 apply irrespective of the technology used to conduct fraudulent misrepresentation.

For purposes of 52 U.S.C. 30124, it does not matter whether a regulated person uses any particular form of technology, including AI, in order to “fraudulently misrepresent himself or any committee or organization under his control as speaking or writing or otherwise acting for or on behalf” of another “candidate or political party or employee or agent” or to engage in the “[f]raudulent solicitation of funds” by “misrepresent[ing] the person as speaking, writing, or otherwise acting for or on behalf of any candidate or political party or employee or agent thereof for the purpose of soliciting contributions or donations.” 52 U.S.C. 30124(a)-(b). The legal question is whether the actor fraudulently holds himself or herself out as “acting for or on behalf of any other candidate or political party or employee or agent thereof.” Id. This fraud may be accomplished using AI-assisted media, forged signatures, physically altered documents or media, false statements, or any other means. The statute, and the Commission's implementing regulation, is technology neutral.

The Commission believes that this interpretation of its statute and attendant regulation will clarify the scope of 52 U.S.C. 30124 in connection with evolving technology, including AI-assisted media and future developments that remain unknown and unpredictable.

This interpretive rule announces the general course of action that the Commission intends to follow. This interpretive rule does not constitute an agency action requiring notice of proposed rulemaking, opportunities for public participation, prior publication, or delay in effective date under 5 U.S.C. 533. It does not bind the Commission or any members of the general public, nor does it create or remove any rights, duties, or obligations. The provisions of the Regulatory Flexibility Act, which apply when notice and comment are required by the Administrative Procedure Act or other relevant statute, do not apply here. See 5 U.S.C. 603(a).

Dated: September 20, 2024.
On behalf of the Commission,
Sean J. Cooksey,
Chairman, Federal Election Commission.

[FR Doc. 2024-21983 Filed 9-25-24; 8:45 am]

BILLING CODE P